DEPARTMENT OF HOMELAND SECURITY

Federal Emergency Management Agency

[Docket ID FEMA-2015-0001]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of September 30, 2015 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: July 28, 2015.
Roy E. Wright,
Deputy Associate Administrator for Insurance and Mitigation, Department of Homeland Security, Federal Emergency Management Agency.

I. Watershed-based studies:

Upper Grand Watershed
Community | Community map repository address
Daviess County, Missouri, and Incorporated Areas
Docket No.: FEMA-B-1404
City of Gallatin | City Hall, 112 East Grand Street, Gallatin, MO 64650.
Town of Lock Springs | Lock Springs Town Hall, 200 Lake Street, Jamesport, MO 64648.
Unincorporated Areas of Daviess County | County Courthouse, 102 North Main Street, Gallatin, MO 64640.
Village of Jameson | Village Hall, 201 Main Street, Jameson, MO 64647.

II. Non-watershed-based studies:

Community | Community map repository address
Contra Costa County, California, and Incorporated Areas
Docket No.: FEMA-B-1433
City of Antioch | Engineering and Development, Services Division, 200 H Street, Antioch, CA 94509.
City of Hercules | Engineering Department, 111 Civic Drive, Hercules, CA 94547.
City of Martinez | Engineering Department, 525 Henrietta Street, Martinez, CA 94553.
City of Oakley | Public Works and Engineering, 3231 Main Street, Oakley, CA 94561.
City of Pinole | Public Works Department, 2131 Pear Street, Pinole, CA 94564.
City of Pittsburg | Engineering Record Section, City Hall, 65 Civic Avenue, Pittsburg, CA 94565.
City of Richmond | Engineering Division, 450 Civic Center Plaza, Richmond, CA 94804.
City of San Pablo | Planning/Zoning, 13831 San Pablo Avenue, San Pablo, CA 94806.
Unincorporated Areas of Contra Costa County | Public Works Department, 255 Glacier Drive, Martinez, CA 94553.
Schuyler County, Illinois, and Incorporated Areas
Docket No.: FEMA-B-1434
Unincorporated Areas of Schuyler County | Schuyler County Highway Department, 121 Henninger Drive, Rushville, IL 62681.
Kosciusko County, Indiana, and Incorporated Areas
Docket No.: FEMA-B-1415
City of Warsaw | Warsaw Planning Department, 102 South Buffalo Street, Warsaw, IN 46580.
Town of Leesburg | Leesburg Town Hall, 100 East Van Buren Street, Leesburg, IN 46538.
Town of Mentone | Mentone Town Hall, 201 West Main Street, Mentone, IN 46539.
Town of Milford | Kosciusko County Courthouse, Kosciusko County Area Planning, 100 West Center Street, Warsaw, IN 46580.
Town of North Webster | Kosciusko County Courthouse, Kosciusko County Area Planning, 100 West Center Street, Warsaw, IN 46580.
Town of Syracuse | Kosciusko County Courthouse, Kosciusko County Area Planning, 100 West Center Street, Warsaw, IN 46580.
Town of Winona Lake | Winona Lake Town Hall, 1310 Park Avenue, Winona Lake, IN 46590.
Unincorporated Areas of Kosciusko County | Kosciusko County Courthouse, Kosciusko County Area Planning, 100 West Center Street, Warsaw, IN 46580.
Porter County, Indiana, and Incorporated Areas
Docket No.: FEMA-B-1348
City of Portage | Building Department, 6070 Central Avenue, Portage, IN 46368.
City of Valparaiso | Building Department, 166 West Lincolnway, Valparaiso, IN 46383.
Town of Beverly Shores | Town Hall, 500 South Broadway, Beverly Shores, IN 46301.
Town of Burns Harbor | Building Department, 1240 North Boo Road, Burns Harbor, IN 46304.
Town of Chesterton | Building Department, 1490 Broadway, Suite 5, Chesterton, IN 46304.
Town of Dune Acres | Building Department, 1 East Road, Dune Acres, IN 46304.
Town of Hebron | Building Department, 106 East Sigler Street, Hebron, IN 46341.
Town of Ogden Dunes | Building Department, 115 Hillcrest Road, Ogden Dunes, IN 46368.
Town of Porter | Building Department, 303 Franklin Street, 2nd Floor, Porter, IN 46304.
Unincorporated Areas of Porter County | Porter County Plan Commission, 155 Indiana Avenue, Valparaiso, IN 46383.
Kandiyohi County, Minnesota, and Incorporated Areas
Docket No.: FEMA-B-1440
City of Lake Lillian | City Hall, 531 Lakeview Street, Lake Lillian, MN 56253.
City of New London | City Hall, 20 First Avenue Southwest, New London, MN 56273.
City of Raymond | City Office, 208 Cofield Street, Raymond, MN 56282.
City of Regal | Mayor's Residence, 14465 293rd Avenue Northeast, Belgrade, MN 56312.
City of Spicer | City Hall, 217 Hillcrest Avenue, Spicer, MN 56288.
City of Willmar | City Office Building, 333 6th Street Southwest, Willmar, MN 56201.
Unincorporated Areas of Kandiyohi County | Kandiyohi County Office Building, 400 Benson Avenue Southwest, Willmar, MN 56201.
Norman County, Minnesota, and Incorporated Areas
Docket No.: FEMA-B-1311
City of Ada | 15 East 4th Street, Ada, MN 56510.
City of Borup | 203 Main Avenue, Borup, MN 56519.
City of Halstad | 404 5th Avenue East, Halstad, MN 56548.
City of Hendrum | 308 Main Street East, Hendrum, MN 56550.
City of Perley | 205 Main Street, Perley, MN 56574.
City of Shelly | 101 West McKinley Avenue, Shelly, MN 56581.
City of Twin Valley | 107 2nd Street SW, Twin Valley, MN 56584.
Unincorporated Areas of Norman County | 16 rd Avenue East, Ada, MN 56510.
Strafford County, New Hampshire (All Jurisdictions)
Docket No.: FEMA-B-1415
City of Dover | City Office, 288 Central Avenue, Dover, NH 03820.
Town of Durham | Town Office, 15 Newmarket Road, Durham, NH 03824.
Town of Madbury | Town Hall, 13 Town Hall Road, Madbury, NH 03823.
Town of Rollinsford | Town Office, 667 Main Street, Rollinsford, NH 03869.
Washington County, Pennsylvania (All Jurisdictions)
Docket No.: FEMA-B-1431
Borough of Allenport | Borough Building, 1850 Main Street, Allenport, PA 15412.
Borough of Beallsville | Borough Building, 82A South Street, Beallsville, PA 15313.
Borough of Bentleyville | Borough Building, 900 Main Street, Suite 101, Bentleyville, PA 15314.
Borough of Burgettstown | Borough Administration Building, 1509 Main Street, Burgettstown, PA 15021.
Borough of California | Borough Zoning Office, 225 Third Street, California, PA 15419.
Borough of Canonsburg | Borough Building, 68 East Pike Street, Canonsburg, PA 15317.
Borough of Centerville | Centerville Borough Office, 100 East End Road, Brownsville, PA 15417.
Borough of Charleroi | Borough Municipal Building, 334 Fallowfield Avenue, Charleroi, PA 15022.
Borough of Coal Center | Borough Building, 132 Water Street, Coal Center, PA 15423.
Borough of Cokeburg | Borough Building, 99 Washington Street, Cokeburg, PA 15324.
Borough of Deemston | Deemston Borough Municipal Building, 1622 Morey Road, Fredericktown, PA 15333.
Borough of Donora | Borough Building, 603 Meldon Avenue, Donora, PA 15033.
Borough of Dunlevy | Borough Building, 2 Walnut Street, Dunlevy, PA 15432.
Borough of Elco | Borough Building, 510 Route 88, Elco, PA 15434.
Borough of Ellsworth | Borough Building, 23 Main Street, Ellsworth, PA 15331.
Borough of Finleyville | Borough Building, 3515 Washington Avenue, Finleyville, PA 15332.
Borough of Green Hills | Green Hills Borough Office, 2755 Park Avenue, Washington, PA 15301.
Borough of Houston | Borough Building, 42 Western Avenue, Houston, PA 15342.
Borough of Long Branch | Long Branch Borough Building, 440 Mount Tabor Road, Coal Center, PA 15423.
Borough of Marianna | Borough Building, 1 Procasky Road, Marianna, PA 15345.
Borough of Midway | Borough Office, 304 Noblestown Road, Midway, PA 15060.
Borough of New Eagle | Borough Building, 157 Main Street, New Eagle, PA 15067.
Borough of North Charleroi | Borough Building, 555 Walnut Avenue, North Charleroi, PA 15022.
Borough of Roscoe | Borough Municipal Building, 500 Arthur Avenue, Roscoe, PA 15477.
Borough of Speers | Speers Borough Hall, 300 Phillips Street, Charleroi, PA 15022.
Borough of Stockdale | Borough Office, 402 Locust Street, Stockdale, PA 15483.
Borough of Twilight | Twilight Borough Building, 8 Chestnut Road, Charleroi, PA 15022.
Borough of West Brownsville | Municipal Building, 235 Main Street, West Brownsville, PA 15417.
Borough of West Middletown | Borough Office, 18 West Main Street, West Middletown, PA 15379.
City of Monongahela | City Hall, 449 West Main Street, Monongahela, PA 15063.
City of Washington | City Hall, 55 West Maiden Street, Washington, PA 15301.
Township of Amwell | Amwell Township Municipal Building, 885 Amity Ridge Road, Amity, PA 15311.
Township of Blaine | Blaine Township Municipal Building, 40 Main Street, Taylorstown, PA 15365.
Township of Buffalo | Buffalo Township Office, 400 Buffalo Center Lane, Washington, PA 15301.
Township of Canton | Canton Township Municipal Building, 655 Grove Avenue, Washington, PA 15301.
Township of Carroll | Carroll Township Hall, 130 Baird Street, Monongahela, PA 15063.
Township of Cecil | Township Office, 3599 Millers Run Road, Suite 101, Cecil, PA 15321.
Township of Chartiers | Chartiers Township Municipal Center, Buccaneer Drive, Houston, PA 15342.
Township of Cross Creek | Cross Creek Township Municipal Building, 28 Clark Avenue, Avella, PA 15312.
Township of Donegal | Donegal Township Municipal Office, 34 North Liberty Street, West Alexander, PA 15376.
Township of East Bethlehem | East Bethlehem Township Office, 36 Water Street, Fredericktown, PA 15333.
Township of East Finley | East Finley Township Office Building, 1394 East Finley Drive, Claysville, PA 15323.
Township of Fallowfield | Fallowfield Township Building, 9 Memorial Drive, Charleroi, PA 15022.
Township of Hanover | Hanover Township Hall, 11 Municipal Drive, Burgettstown, PA 15021.
Township of Hopewell | Hopewell Township Building, 20 Parkview Road, Avella, PA 15312.
Township of Independence | Independence Township Building, 34 Campbell Street, Avella, PA 15312.
Township of Jefferson | Jefferson Township Building, 670 Cedar Grove Road, Burgettstown, PA 15021.
Township of Morris | Morris Township Municipal Building, 473 Sparta Road, Prosperity, PA 15329.
Township of Mount Pleasant | Mount Pleasant Township Building, 31 McCarrell Road, Hickory, PA 15340.
Township of North Bethlehem | North Bethlehem Township Municipal Building, 2178 East National Pike, Scenery Hill, PA 15360.
Township of North Franklin | North Franklin Township Municipal Building, 620 Franklin Farms Road, Washington, PA 15301.
Township of North Strabane | North Strabane Township Municipal Building, 1929 Route 519 South, Canonsburg, PA 15317.
Township of Nottingham | Nottingham Township Municipal Building, 909 Sugar Run Road Eighty Four, PA 15330.
Township of Peters | Peters Township Municipal Building, 610 East McMurray Road, McMurray, PA 15317.
Township of Robinson | Robinson Township Office, 8400 Noblestown Road, McDonald, PA 15057.
Township of Smith | Smith Township Building, 1848 Smith Township State Road, Slovan, PA 15078.
Township of Somerset | Somerset Township Municipal Building, 615 Vanceville Road, Eighty Four, PA 15330.
Township of South Franklin | South Franklin Township Building, 100 Municipal Road, Washington, PA 15301.
Township of South Strabane | South Strabane Township Building, 550 Washington Road, Washington, PA 15301.
Township of Union | Union Township Municipal Building, 3904 Finleyville-Elrama Road, Finleyville, PA 15332.
Township of West Bethlehem | West Bethlehem Township Municipal Building, 247 Jefferson Avenue, Marianna, PA 15345.
Township of West Finley | West Finley Township Office, 401 Beham Ridge Road, West Alexander, PA 15376.
Township of West Pike Run | West Pike Run Township Municipal Building, 238 Pike Run Drive, Daisytown, PA 15427.

[FR Doc. 2015-20439 Filed 8-18-15; 8:45 am]

BILLING CODE P